DEPARTMENT OF THE INTERIOR

Bureau of Land Management

43 CFR Parts 3100 and 3170

[17X.LLWO310000.L13100000.PP0000]

RIN 1004-AE14

Waste Prevention, Production Subject to Royalties, and Resource Conservation; Correction

AGENCY: Bureau of Land Management, Interior.

ACTION: Final rule; correction.

SUMMARY: The Bureau of Land Management (BLM) is correcting a final rule that appeared in the Federal Register on November 18, 2016. The document promulgated new regulations to reduce waste of natural gas from venting, flaring, and leaks during oil and natural gas production activities on onshore Federal and Indian (other than Osage Tribe) leases. The regulations also clarify when produced gas lost through venting, flaring, or leaks is subject to royalties, and when oil and gas production may be used royalty-free on-site. This document corrects several minor errors that were introduced by the Office of the Federal Register during formatting, as well as one erroneous cross-reference, in the text of the final rule.

DATES: Effective January 17, 2017.

FOR FURTHER INFORMATION CONTACT: Timothy Spisak at the BLM Washington Office, 20 M Street SE., Room 2134LM, Washington, DC 20003, or by telephone at 202-912-7311. For questions relating to regulatory process issues, contact Faith Bremner at 202-912-7441.

SUPPLEMENTARY INFORMATION: In FR Doc. 2016-27637 published in the Federal Register on November 18, 2016 (81 FR 83008), the following corrections are made:

§ 3103.3-1 [Corrected]

1. On page 83077, in the third column, in § 3103.3-1(a)(2) add the word “after” before “January 17, 2017:”

§ 3179.4 [Corrected]

2. On page 83082, in the first column, in § 3179.4, designate the definition of “unavoidably lost oil or gas” as paragraph (a).

3. On page 83082, in the second column, in § 3179.4, designate the definition for “avoidably lost oil or gas” as paragraph (b).

§ 3179.102 [Corrected]

4. On page 83084, in the second column, in § 3179.102(d), remove the phrase “paragraph (d)” and add in its place the phrase “paragraph (c).”

Dated: November 28, 2016.
Amanda Leiter,
Acting Assistant Secretary, Land and Minerals Management.

[FR Doc. 2016-29205 Filed 12-7-16; 8:45 am]

BILLING CODE 4310-84-P